ENVIRONMENTAL PROTECTION AGENCY

[FRL-8688-7]

Proposed Agreement Pursuant to Section 122(h)(1) of the Comprehensive Environmental Response, Compensation, and Liability Act for the Wabash Environmental Technologies Site

AGENCY: Environmental Protection Agency (“EPA”).

ACTION: Notice; Request for public comment on proposed CERCLA 122(h)(1) agreement with Heidtman Steel Products, Inc.; Marathon Petroleum Company LLC; and Perma-Fix Environmental Services, Inc. for the Wabash Environmental Technologies Superfund Site.

SUMMARY: In accordance with section 122(i)(1) of the Comprehensive Environmental Response, Compensation, and Liability Act of 1984, as amended (“CERCLA”), notification is hereby given of a proposed administrative agreement concerning the Wabash Environmental Technologies hazardous waste site in Terre Haute, Indiana (the “Site”). EPA proposes to enter into this agreement under the authority of section 122(h) and 107 of CERCLA. The proposed agreement has been executed by Heidtman Steel Products, Inc.; Marathon Petroleum Company LLC; and Perma-Fix Environmental Services, Inc. (the “Settling Parties”).

Under the proposed agreement, the Settling Parties will pay $200,000 to the Hazardous Substances Superfund to resolve EPA's claims against them for response costs incurred by EPA at the Site. EPA has incurred response costs investigating and performing response actions at the Site to mitigate potential imminent and substantial endangerments to human health or the environment presented or threatened by hazardous substances present at the Site.

For thirty days following the date of publication of this notice, the EPA will receive written comments relating to this proposed agreement. EPA will consider all comments received and may decide not to enter this proposed agreement if comments disclose facts or considerations which indicate that the proposed agreement is inappropriate, improper or inadequate.

DATES: Comments on the proposed agreement must be received by EPA on or before August 7, 2008.

ADDRESSES: Comments should be addressed to the Docket Clerk, U.S. Environmental Protection Agency, Region 5, 77 West Jackson Boulevard, Chicago, Illinois 60604-3590, and should refer to: In the Matter of Wabash Environmental Technologies Site, Terre Haute, Indiana, U.S. EPA Docket No. V-W-08C-903.

FOR FURTHER INFORMATION CONTACT: Thomas J. Krueger, U.S. Environmental Protection Agency, Office of Regional Counsel, C-14J, 77 West Jackson Boulevard, Chicago, Illinois 60604-3590, (312) 886-0562.

A copy of the proposed administrative settlement agreement may be obtained in person or by mail from the EPA's Region 5 Office of Regional Counsel, 77 West Jackson Boulevard, Chicago, Illinois 60604-3590. Additional background information relating to the settlement is available for review at the EPA's Region 5 Office of Regional Counsel.

Authority: The Comprehensive Environmental Response, Compensation, and Liability Act, as amended, 42 U.S.C. 9601-9675.

Dated: June 26, 2008.
Richard C. Karl,
Director, Superfund Division, Region 5.

[FR Doc. E8-15434 Filed 7-7-08; 8:45 am]

BILLING CODE 6560-50-P